DEPARTMENT OF TRANSPORTATION

Federal Aviation Administration

Seventh Meeting—RTCA Special Committee 217: Joint With EUROCAE WG-44 Terrain and Airport Mapping Databases

AGENCY: Federal Aviation Administration (FAA), DOT.

ACTION: Notice of RTCA Special Committee 217: Joint with EUROCAE WG-44 Terrain and Airport Mapping Databases.

SUMMARY: The FAA is issuing this notice to advise the public of a meeting of RTCA Special Committee 217: Joint with EUROCAE WG-44 Terrain and Airport Mapping Databases.

DATES: The meeting will be held on October 25-29, 2010.

ADDRESSES: The meeting will be held at Jeppesen World Headquarters, Wilbur Wright Room, 55 Invernes Drive East, Englewood, Colorado, 80112, USA, John Kasten, E-mail: john.kasten@jeppesen.com, telephone (303) 328-4535, mobile (303) 260-9652. Alternate Contact, Lisa Haskell, E-mail: lisa.haskell@jeppesen.com, telephone (303) 328-6891.

FOR FURTHER INFORMATION CONTACT: RTCA Secretariat, 1828 L Street, NW., Suite 805, Washington, DC, 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 217: Joint with EUROCAE WG-44 Terrain and Airport Mapping Databases meeting. The agenda will include:

Monday, October 25th

• Opening Plenary Session.

• Chairmen's remarks and introductions.

• Housekeeping.

• Approve minutes from previous meeting.

• Review and approve meeting agenda.

• Schedule for this week.

• Action Item Review.

• Presentations (Not linked to Working Group Activity).

• None Scheduled. Note: Coordination with both co-chairs required to add something here.

• Working Group Reports (Activity Status).

• During this block, the Working Group Leads are to report on activities that have occurred since the April meeting, i.e. meetings held, materials developed. Work-in-progress is covered later in the week. For Working Groups and Leads, see last page. Data Quality—Non-Numeric Requirements.

Tuesday, October 26th

• Working Group Reports on What is Ready for Publication.

• During this block, the Working Group Leads review for the Committee those items of their work programs that have been finalized and either have or will be provided for document(s) update within the current schedule. For Working Groups and Leads, see last page.

Wednesday, October 27th

• Specific Working Group Sessions (As Required):

• During this block, the Working Group Leads will present their work-in-progress and with Committee participate, prioritize in terms of “next document release or later”. For Working Group Leads, see last page.

Thursday, October 28th

• Continuation of Specific Working Group Sessions (if required) (TBD).

• Working Group Road Map Review.

• During this block, the existing Road Map will be reviewed to ensure all items have been or will be addressed within the appropriate Working Group. Not every Working Group will be required to address this, only those with Road Map Items. For Working Group and Leads, see last page.

• Action Item Review—News items from October 2010 Meeting.

• Any Other Business (TBD).

• Closing Plenary Session—Joint RTCA SC-217/EUROCAE WG-44.

Friday, October 29th.

• D-Taxi Coordination Report (Tiger Team).

• Andre Bourdais to report on the Tiger Team activities with Eurocae WG-78 (assisted by his co-chair). This will be an opportunity for SC-217/WG-44 to meet with the Tiger Team for detailed discussions and issue resolution.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 17, 2010.
Robert L. Bostiga,
RTCA Advisory Committee.

[FR Doc. 2010-24112 Filed 9-24-10; 8:45 am]

BILLING CODE 4910-13-P